DEPARTMENT OF HEALTH AND HUMAN SERVICES

Food and Drug Administration

Request for Nominations for Voting and Nonvoting Consumer Representative Members on Public Advisory Committees and Panels

AGENCY: Food and Drug Administration, HHS.

ACTION: Notice.

SUMMARY: The Food and Drug Administration (FDA) is requesting nominations for voting and nonvoting consumer representatives to serve on its advisory committees and panels in the Center for Devices and Radiological Health, the Center for Drug Evaluation and Research, and the Center for Food Safety and Applied Nutrition. Nominations will be accepted for current vacancies and for those that will or may occur through December 31, 2002.

FDA has a special interest in ensuring that women, minority groups, and individuals with disabilities are adequately represented on advisory committees and, therefore, encourages nominations of qualified candidates from these groups.

DATES: Nominations should be received approximately 6 months before the vacancy dates listed in this notice.

ADDRESSES: All nominations with curricula vitae or resume (which should include nominee's office address, telephone number, and e-mail address) should be submitted to Maureen Hess (address below).

FOR FURTHER INFORMATION CONTACT: Maureen Hess, Office of Consumer Affairs (HFE-50), Food and Drug Administration, 5600 Fishers Lane, Rockville, MD 20857, 301-827-5006, e-mail: MHess@oc.fda.gov.

SUPPLEMENTARY INFORMATION: FDA is requesting nominations for voting and nonvoting consumer representatives of the following nine advisory committees and panels for vacancies listed below.

Center for Devices and Radiological Health

1. Clinical Chemistry and Clinical Toxicology Devices Panel: One vacancy occurring February 28, 2002.

2. Circulatory System Devices Panel: One vacancy occurring June 30, 2002.

3. Gastroenterology and Urology Devices Panel: One vacancy occurring December 31, 2002.

4. General and Hospital Personal Use Devices Panel: One vacancy occurring December 31, 2002.

Center for Drug Evaluation and Research

1. Anesthetic and Life Support Drugs Advisory Committee: One vacancy occurring March 31, 2002.

2. Medical Imaging Drugs Advisory Committee: One vacancy occurring June 30, 2002.

3. Psychopharmacologic Drugs Advisory Committee: One vacancy occurring June 30, 2002.

4. Advisory Committee for Pharmaceutical Science: one vacancy occurring October 31, 2002.

Center for Food Safety and Applied Nutrition

1. Food Advisory Committee: Five vacancies occurring June 30, 2002.

I. Criteria for Members

Persons nominated for membership on the committees as a consumer representative shall have demonstrated ties to consumer and community-based organizations and be able to analyze data, understand research design, discuss benefits and risks, and evaluate the safety and effectiveness of products under review. The consumer representative must be able to represent the consumer perspective on issues and actions before the advisory committee, serve as a liaison between the committee and interested consumers, associations, coalitions, and consumer organizations, and facilitate dialogue with the advisory committees on scientific issues that affect consumers.

II. Selection Procedures

Selection of members representing consumer interests is conducted through procedures that include use of a list of organizations representing the public interest and consumer advocacy groups. The list of organizations has the responsibility for recommending candidates for the agency's selection.

III. Nomination Procedures

Any interested person or organization may nominate one or more qualified persons for membership on one or more of the advisory committees to represent consumer interests. Self-nominations are also accepted. FDA will ask the potential candidates to provide detailed information concerning such matters as financial holdings, employment, and research grants and/or contracts to permit evaluation of possible sources of conflict of interest. The nomination should state whether the nominee is interested only in a particular advisory committee or in any advisory committee. The term of office is up to 4 years, depending on the appointment date.

This notice is issued under the Federal Advisory Committee Act (5 U.S.C. app. 2) and 21 CFR part 14, relating to advisory committees.

Dated: October 16, 2001.
Linda A. Suydam,
Senior Associate Commissioner.

[FR Doc. 01-26572 Filed 10-22-01; 8:45 am]

BILLING CODE 4160-01-S